DEPARTMENT OF AGRICULTURE

Forest Service

Tuolumne County Resource Advisory Committee

AGENCY: Forest Service, USDA.

ACTION: Notice of meeting.

SUMMARY: The Tuolumne County Resource Advisory Committee will meet on August 23, 2004, at the City of Sonora Fire Department, in Sonora, California. The purpose of the meeting is to complete voting on proposed projects, and establish dates for next year's meetings.

DATES: The meeting will be held August 23, 2004, from 12 p.m. to 3 p.m.

ADDRESSES: The meeting will be held at the City of Sonora Fire Deparment located at 201 South Shepherd Street, in Sonora, California (CA 95370).

FOR FURTHER INFORMATION CONTACT: Pat Kaunert, Committee Coordinator, USDA, Stanislaus National Forest, 19777 Greenley Road, Sonora, CA 95370 (209) 532-3671; e-mail pkaunert@fs.fed.us.

SUPPLEMENTARY INFORMATION: Agenda items to be covered include: (1) Complete voting on proposed projects; (2) Establish dates for next year's meetings; (3) Public comment on meeting proceedings. This meeting is open to the public.

Dated: May 20, 2004.
Tom Quinn,
Forest Supervisor.

[FR Doc. 04-11998 Filed 5-26-04; 8:45 am]

BILLING CODE 3410-ED-M